GENERAL SERVICES ADMINISTRATION

[OMB Control No. 3090-0014; Docket No. 2018-0001; Sequence No. 7]

Information Collection; Transfer Order—Surplus Personal Property and Continuation Sheet, Standard Form (SF) 123

AGENCY: Federal Acquisition Service, General Services Administration (GSA).

ACTION: Notice of request for an extension to an existing OMB clearance.

SUMMARY: Under the provisions of the Paperwork Reduction Act, the Regulatory Secretariat Division will be submitting to the Office of Management and Budget (OMB) a request to review and approve an extension of a previously approved information collection requirement regarding the Transfer Order—Surplus Personal Property and Continuation Sheet, Standard Form (SF) 123.

DATES: Submit comments on or before: October 29, 2018.

ADDRESSES: Submit comments identified by Information Collection 3090-0014, Transfer Order—Surplus Personal Property and Continuation Sheet, Standard Form (SF) 123, by any of the following methods:

• Regulations.gov: http://www.regulations.gov.

Submit comments via the Federal eRulemaking portal by searching the OMB control number. Select the link “Comment Now” that corresponds with “Information Collection 3090-0014, Transfer Order—Surplus Personal Property and Continuation Sheet, Standard Form (SF) 123”. Follow the instructions provided on the screen. Please include your name, company name (if any), and “Information Collection 3090-0014, Transfer Order—Surplus Personal Property and Continuation Sheet, Standard Form (SF) 123,” on your attached document.

• Mail: General Services Administration, Regulatory Secretariat Division (MVCB), 1800 F Street NW, Washington, DC 20405. ATTN: Ms. Mandell/IC 3090-0014.

Instructions: Please submit comments only and cite Information Collection 3090-0014, Transfer Order—Surplus Personal Property and Continuation Sheet, Standard Form (SF) 123, in all correspondence related to this collection. All comments received will be posted without change to http://www.regulations.gov, including any personal and/or business confidential information provided.

FOR FURTHER INFORMATION CONTACT: Mr. Christopher Willett, Property Disposal Specialist, GSA Office of Personal Property Management, at telephone 703-605-2873 or via email to christopher.willett@gsa.gov.

SUPPLEMENTARY INFORMATION:

A. Purpose

The Transfer Order—Surplus Personal Property and Continuation Sheet, Standard form (SF) 123, is used by a State Agency for Surplus Property (SASP) to donate Federal surplus personal property to public agencies, nonprofit educational or public health activities, programs for the elderly, service educational activities, and public airports. The SF 123 serves as the transfer instrument and includes item descriptions, transportation instructions, nondiscrimination assurances, and approval signatures.

B. Annual Reporting Burden

Respondents (electronic): 30,890.

Respondents (manual): 312.

Total Number of Respondents: 31,202.

Total Hours per Response (electronic at .017 Hours per Response): 525.13.

Total Hours per Response (manual at .13 Hours per Response): 40.56.

Total Burden Hours: 565.69.

C. Public Comments

Public comments are particularly invited on: Whether this collection of information is necessary and whether it will have practical utility; whether our estimate of the public burden of this collection of information is accurate, and based on valid assumptions and methodology; ways to enhance the quality, utility, and clarity of the information to be collected.

Obtaining Copies of Proposals: Requesters may obtain a copy of the information collection documents from the General Services Administration, Regulatory Secretariat Division (MVCB), 1800 F Street NW, Washington, DC, 20405, telephone 202-501-4755. Please cite OMB Control No. 3090-0014, Transfer Order—Surplus Personal Property and Continuation Sheet, Standard Form (SF) 123, in all correspondence.

Dated: August 22, 2018.
David A. Shive,
Chief Information Officer.

[FR Doc. 2018-18790 Filed 8-29-18; 8:45 am]

BILLING CODE 6820-34-P